DEPARTMENT OF TRANSPORTATION

Federal Railroad Administration

[Docket Number FRA-2011-0107]

Petition for Waiver of Compliance

In accordance with part 211 of Title 49 Code of Federal Regulations (CFR), this document provides the public notice that by a document dated July 18, 2016, CSX Transportation (CSX) requested that the Federal Railroad Administration's (FRA) Railroad Safety Board (Board) issue an expansion of the territory allowed for its nonstop continuous rail testing process. CSX's existing waiver in this docket exempts it from the requirements of 49 CFR 213.113(a) so that it could implement a pilot test process for nonstop continuous rail testing. The projected starting date for implementing the process on the additional territories would be August 14, 2016, and the waiver process would continue up to December 31, 2017. The original approved waiver allows CSX to perform the continuous test process on the main tracks between Richmond, VA, and Jacksonville, FL; between Albany, NY, and Buffalo, NY; and on the C&O Division from Russell, KY, to Newport News, VA. CSX is proposing the testing frequency along the mainline tracks not to exceed 62 days.

Expanded territory will include: Chicago Division, Barr Subdivision (Gary, IN, to Riverdale, IL, Milepost (MP) DC 0-DC 11.4 tracks 1 and 2); Barr Subdivision (Portage, IN, to Gary, IN, MP BI 236.9-BI 249 tracks 1 and 2); Garrett Subdivision (Auburn, IN, to Portage, IN, MP BI 124.7-BI 236.9 tracks 1, 2, and 3); Garrett East Subdivision (Deshler, OH, to Auburn, IN, MP BI 62.8-BI 124.7 tracks 1 and 2); Great Lakes Division, Willard Subdivision (Willard, OH, to Deshler, OH, MP BI 4.2-BI 62.8 tracks 1 and 2); Willard Terminal Subdivision (Willard, OH, to Willard, OH, MP BI 0-BI 4.2 1, 2, and 3); Willard Terminal Subdivision (Greenwich, OH, to Willard, OH, MP BG 192.9-BG 204 tracks 1, 2, and 3); Greenwich Subdivision (Berea, OH, to Greenwich, OH, MP QI 14.4-QI 54.46 tracks 1 and 2) Cleveland Shortline Subdivision (Cleveland, OH, to Berea, OH, MP QDS 0-QDS 23.5 tracks 1 and 2); Cleveland Terminal Subdivision (Euclid, OH, to Cleveland, OH, MP QD 171.2-QD 174.83 tracks 1 and 2); Erie West Subdivision (Derby, NY, to Euclid, OH, MP QD 15.6-QD 171.2 4 tracks 1, 2, 3, and 4); Albany Division, Buffalo Terminal Subdivision (Buffalo, NY, to Derby, NY, MP QD 0-QD 15.6 tracks 1, 2, and 3); Buffalo Terminal Subdivision (North Chili, NY, to Buffalo, NY, MP QC 382.8-QC 437.8 tracks 1, 2, 3, and 4) Rochester Subdivision (Syracuse, NY, to North Chili, NY, MP QC 296.8-382.8 tracks 1 and 2) Syracuse Terminal Subdivision (Oneida, NY, to Syracuse, NY, MP QC 263.7-QC 296.8 tracks 1, 2, and 3); Mohawk Subdivision (Amsterdam, NY, to Oneida, NY, MP QC 169.7-QC 263.7 tracks 1 and 2); Selkirk Subdivision (Selkirk, NY, to Amsterdam, NY, MP QG 13.7-QG 42.47 tracks 1 and 2); Castleton Subdivision (Selkirk, NY, to Selkirk, NY, MP QG 11.7-QG 13.7 tracks 1 and 2); River Subdivision (North Bergen, NJ, to Selkirk, NY, MP QR 1.68-QR 132.6 track 1 and 2); Trenton Subdivision (Philadelphia, PA, to Manville NJ, MP QA 0-QA 57.33 tracks 1, 2, and 3); Baltimore Division Philadelphia Subdivision (Philadelphia, PA, to Philadelphia, PA, MP BBF 0-BBF 1.38 tracks 1 and 2); Philadelphia Subdivision (Philadelphia, PA, to Baltimore, MD, MP BAK 0-BAK 89.6 tracks 1, 2, and 3); Baltimore Terminal Subdivision (Baltimore, MD, to Baltimore, MD, MP BAK 89.6-BAK 96.6 tracks 1 and 2); Baltimore Terminal Subdivision (Baltimore, MD, to Halethorpe, MD, MP BAA 0-BAA 6.5 tracks 1, 2, and 3) Capital Subdivision (Halethorpe, MD, to Hyattsville, MD, MP BAA 6.6-BAA 33.1 tracks 1 and 2) Capital Subdivision (Hyattsville, MD, to Washington, DC, MP CFP 113.8-CFP 121.7 tracks 1 and 2) RF&P Subdivision (Richmond, VA, to Washington, DC, MP CFP 5.1-CFP 113.8 tracks 1, 2, 3, and 4); Florence Division Richmond Terminal Subdivision (Richmond, VA, to Richmond, VA, MP CFP 1-5.1 tracks 1 and 2); Richmond Terminal Subdivision (Richmond, VA, to Richmond, VA, MP ARN 0-ARN 3.6 tracks 1 and 2); North End Subdivision (Richmond, VA, to Rocky Mount, NC, MP A-A 119.9 tracks 1 and 2); South End Subdivision (Rocky Mount, NC, to Dillon, SC, MP A 119.9-A 262.9 tracks 1 and 2).

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal holidays.

Communications received by November 17, 2016 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also https://www.regulations.gov/privacyNotice for the privacy notice of regulations.gov.

Robert C. Lauby,
Associate Administrator for Railroad Safety, Chief Safety Officer.

[FR Doc. 2016-23793 Filed 9-30-16; 8:45 am]

BILLING CODE 4910-06-P